DEPARTMENT OF LABOR

Employment and Training Administration

[TA-W-52,760]

Fishing Vessel Freedom (F/V) Freedom Mt. Vernon, WA; Dismissal of Application for Reconsideration

Pursuant to 29 CFR 90.18(C) an application for administrative reconsideration was filed with the Director of the Division of Trade Adjustment Assistance for workers at Fishing Vessel (F/V) Freedom, Mt. Vernon, Washington. The application contained no new substantial information which would bear importantly on the Department's determination. Therefore, dismissal of the application was issued.

TA-W-52,760; Fishing Vessel F/V) Freedom Mt. Vernon, Washington (January 14, 2004)

Signed at Washington, DC this 27th day of January 2004.
Timothy Sullivan,
Director, Division of Trade Adjustment Assistance.

[FR Doc. 04-2605 Filed 2-5-04; 8:45 am]

BILLING CODE 4510-30-P